DEPARTMENT OF HOMELAND SECURITY

Coast Guard

[Docket No. USCG-2023-0124]

Port Access Route Study: Approaches to the Ports of Puerto Rico and U.S. Virgin Islands

AGENCY: Coast Guard, DHS.

ACTION: Notice of study; request for comments.

SUMMARY: The Coast Guard is conducting a Port Access Route Study to evaluate safe access routes for the movement of vessel traffic proceeding to or from the ports or places in the Commonwealth of Puerto Rico and the U.S. Virgin Islands and to determine whether shipping safety fairways and/or routing measures should be established, adjusted, or modified. The Puerto Rico and U.S. Virgin Islands Port Access Route Study considers whether such measures are necessary to improve navigation safety due to factors such as planned or potential offshore development, current port capabilities and planned improvements, increased vessel traffic, existing and potential anchorage areas, changing vessel traffic patterns, effects of weather, or navigational difficulty. Vessel routing measures, which include traffic separation schemes, two-way routes, recommended tracks, deep-water routes, precautionary areas, and areas to be avoided, are implemented to reduce the risk of marine casualties. To assist us in conducting the Puerto Rico and U.S. Virgin Islands Port Access Route Study, we invite your responses to the questions in the INFORMATION REQUESTED section. The recommendations of the study may subsequently be implemented through rulemakings or in accordance with international agreements.

DATES: Comments and related material must be received on or before July 6, 2023. Requests for a public meeting must be submitted on or before May 8, 2023.

ADDRESSES: You may submit comments identified by docket number USCG-2023-0124 using the Federal eRulemaking Portal http://www.regulations.gov. See the “Public Participation and Request for Comments” portion of the SUPPLEMENTAL.

FOR FURTHER INFORMATION CONTACT: If you have questions about this notice or study, call or email LT Ryan Gilbert, Seventh Coast Guard District (dpw), U.S. Coast Guard; telephone (305) 415-6750, email Ryan.A.Gilbert@uscg.mil.

SUPPLEMENTARY INFORMATION:

I. Table of Abbreviations

ACPARS Atlantic Coast Port Access Route Study

AIS Automatic Identification System

ANPRM Advanced Notice of Proposed Rulemaking

AOR Area of Responsibility

COMDTINST Commandant Instruction

CFR Code of Federal Regulations

COTP Captain of the Port

DHS Department of Homeland Security

EEZ Exclusive Economic Zone

EO Executive Order

FR Federal Register

IMO International Maritime Organization

IRA Inflation Reduction Act

MTS Marine Transportation System

NM Nautical Mile

NPRM Notice of Proposed Rulemaking

PARS Port Access Route Study

PR PARS Puerto Rico and U.S. Virgin Islands Port Access Route Study

PWSA Ports and Waterways Safety Act

TSS Traffic Separation Scheme

U.S. United States

U.S.C. United States Code

USCG United States Coast Guard

II. Background and Purpose

A. Requirements for Port Access Route Studies: Under Section 70003 of Title 46 of the United States Code, the Commandant of the U.S. Coast Guard may designate necessary shipping safety fairways (“fairways”) and traffic separation schemes (TSSs) to provide safe access routes for vessels proceeding to and from U.S. ports. The designation of fairways and TSSs recognizes the paramount right of navigation over all other uses in the designated areas.

Before establishing or adjusting fairways or TSSs, the Coast Guard must conduct a Port Access Route Study (“PARS”), a study of potential traffic density and the need for safe access routes for vessels. Through the study process, the Coast Guard must coordinate with federal, state, and foreign state agencies (where appropriate) and consider the views of maritime community representatives, environmental groups, and other interested stakeholders. The primary purpose of this coordination is, to the extent practicable, to reconcile the need for safe access routes with other reasonable waterway uses such as anchorages, construction, and operation of renewable energy facilities, marine sanctuary operations, commercial and recreational activities, and other uses.

In addition to aiding the Coast Guard in establishing new or adjusting fairways or TSSs, this PARS may recommend establishing or amending other vessel routing measures. Examples of other routing measures include two-way routes, recommended tracks, deep-water routes (for the benefit primarily of ships whose ability to maneuver is constrained by their draft), precautionary areas (where ships must navigate with particular caution), and areas to be avoided (for reasons of exceptional danger or especially sensitive ecological and environmental factors).

B. Previous Port Access Route Studies within this Study Area: In 2016, the Coast Guard published a notice of its Atlantic Coast Port Access Route Study (ACPARS) in the Federal Register (81 FR 13307; March 14, 2016) and announced the study report as final in the Federal Register (82 FR 16510; April 5, 2017). The ACPARS analyzed the Atlantic Coast waters seaward of existing port approaches within the U.S. Exclusive Economic Zone (EEZ). This multiyear study began in 2011, included public participation, and identified the navigation routes customarily followed by ships engaged in commerce between international and domestic U.S. ports. The study is available at https://navcen.uscg.gov/?pageName=PARSReports. Data and information from stakeholders, including Automatic Identification System (AIS) data from vessel traffic, were used to identify and verify deep draft and coastwise navigation routes that are typically followed by ships engaged in commerce between international and domestic U.S. ports.

C. Need for a New Port Access Route Study: In 2022, the Coast Guard announced a new study of routes used by ships to access ports on the Southeast Atlantic Coast of the United States and the Commonwealth of Puerto Rico and U.S. Virgin Islands in the Federal Register (87 FR 76497; December 14, 2022). This new study is in support of the provisions provided in Public Law 117-169, commonly referred to as the Inflation Reduction Act of 2022 (IRA), and Executive Order on the Implementation of the Energy and Infrastructure Provisions of the Inflation Reduction Act of 2022 (E.O. 14082). This study will be separate from, but may expand upon, the proposals in the other Coast Guard rulemakings. The Puerto Rico and Virgin Island Port Access Route Study (“PR PARS”) will focus on the coastwise shipping routes and near coastal users of the Atlantic Ocean and Caribbean Sea between the coastal ports, and the approaches to coastal ports within the U.S. EEZ in Puerto Rico and the U.S. Virgin Islands. This PARS will help the Coast Guard determine what impact, if any, the siting, construction, and operation of new developments may have on existing near coastal users of the U.S. waters of the Atlantic Ocean and Caribbean Sea adjacent to the Commonwealth of Puerto Rico and the U.S. Virgin Islands and the potential impact of shipping to other maritime users. To ensure safety of navigation, the Coast Guard will determine the impacts of rerouting traffic, funneling traffic, and placement of structures that may obstruct navigation. Some of the impacts may include increased vessel traffic density, more restricted offshore vessel routing, fixed navigation obstructions, underwater cable hazards, and economic impacts. Analyzing the various impacts will require a thorough understanding of the interrelationships of shipping, other commercial and recreational uses, and port operations.

The goal of the PARS is to enhance navigational safety by examining existing shipping routes and waterway uses, and, to the extent practicable, reconciling the paramount right of navigation within designated port access routes with other waterway uses such as the development of offshore renewable energy installations, aquaculture farms, marine sanctuaries, and port expansions.

III. Information Requested

Timelines, Study Area, Focus, and Process: The PR PARS is expected to take 12 months or more to complete. The study area will encompass all vessel traffic patterns approaching and departing major ports in the Commonwealth of Puerto Rico and the territories of the U.S. Virgin Islands and all federal navigable waters out to the EEZ. The PR PARS will focus on vessel traffic and navigation mitigation techniques to improve and support safe navigation transits.

As part of this study, we will analyze current and historical vessel traffic, fishing vessel information, agency and stakeholder experience in vessel traffic management, navigation, ship handling, and effects of weather. We encourage you to participate in the study process by submitting comments in response to this document.

We will publish the results of the PR PARS in the Federal Register. It is possible that the study may validate existing vessel routing measures and conclude that no changes are necessary. It is also possible that the study may recommend one or more changes to enhance navigational safety and the efficiency of vessel traffic. The recommendations may lead to future rulemakings or appropriate international agreements.

Possible Scope of the Recommendations: We are attempting to determine the scope of any safety concerns associated with vessel transits in the study area. The information gathered during the study should help us identify concerns and mitigating solutions. Considerations might include: (1) Maintain the current vessel routing measures; (2) modify the existing traffic separation schemes; (3) create one or more precautionary areas; (4) create one or more inshore traffic zones; (5) establish area(s) to be avoided; (6) create deep-draft routes; (7) establish Regulated Navigation Areas (RNA) with specific vessel operating requirements to ensure safe navigation near shallow water; (8) identify any other appropriate ships' routing measures; (9) use this study for future decisions on routing measures or other maritime traffic considerations and; (10) use this study to inform other agencies concerning the impacts of their future endeavors.

Questions: To help us conduct the PR PARS, we request information that will help answer the following questions, although comments on other issues addressed in this document are also welcome. In responding to a question, please explain your reasons for each answer and follow the instructions under “Public Participation and Request for Comments” below.

(1) What navigational hazards do vessels operating in the study area face? Please describe.

(2) Are there strains on the current vessel routing systems, such as increasing traffic density associated with future growth? Please describe.

(3) Are modifications to existing vessel routing measures needed to address hazards and improve traffic efficiency in the study area? If so, please describe.

(4) What costs and benefits are associated with the measures listed as potential study considerations? What measures do you think are most cost-effective?

(5) What impacts, both positive and negative, would changes to existing routing measures or new routing measures have on the study area?

(6) Where do you transit? Where are your transit routes? What criteria are used in determining your transit routes?

(7) Do you currently experience competing uses for the same waterway areas or transit routes? If so, please describe.

(8) Do you anticipate, or are you aware of, future competing uses for the same waterway areas or transit routes? These could include potential offshore energy projects, potential offshore aquaculture projects, or otherwise.

(9) Are there other environmental, cultural, tribal, marine mammal or other impacts which should be considered during this Port Access Route Study?

IV. Public Participation and Request for Comments

We encourage you to participate in this study by submitting comments and related materials. All comments received will be posted without change to http://www.regulations.gov and will include any personal information you have provided.

A. Submitting Comments: If you submit comments to the online public docket, please include the docket number for this rulemaking (USCG-2023-0124), indicate the specific section of this document to which each comment applies, and provide a reason for each suggestion or recommendation. We accept anonymous comments.

To submit your comment online, go to http://www.regulations.gov, and insert “USCG-2023-0124” in the “search box.” Click “Search”. Then click “Comment Now.” We will consider all comments and material received during the comment period.

B. Public Meetings: The Coast Guard may hold public meeting(s) if there is sufficient public interest. You must submit a request for one on or before May 8, 2023. You may submit your request for a public meeting online via http://www.regulations.gov. Please explain why you believe a public meeting would be beneficial. If we determine that a public meeting would aid in the study, we will hold a meeting at a time and place announced by a later notice in the Federal Register.

C. Viewing Comments and Documents: To view the comments and documents mentioned in this preamble as being available in the docket, go to http://www.regulations.gov, click on the “read comments” box, which will then become highlighted in blue. In the “Keyword” box insert “USCG-2023-0124” and click “Search.” Click the “Open Docket Folder” in the “Actions” column.

D. Privacy Act: We accept anonymous comments. All comments received will be posted without change to https://www.regulations.gov and will include any personal information you have provided. For more about privacy and submissions in response to this document, see DHS's Correspondence System of Records notice (84 FR 48645, September 26, 2018). Documents mentioned in this notice as being available in the docket, and all public comments, will be in our online docket at https://www.regulations.gov and can be viewed by following that website's instructions. Additionally, if you go to the online docket and sign up for email alerts, you will be notified when comments are posted, or a final rule is published.

V. Puerto Rico and U.S. Virgin Islands PARS (PR PARS): Study Area

The Seventh Coast Guard District and Coast Guard Sector San Juan will conduct the PR PARS. The study will commence upon publication of this notice and take 12 months or more to complete.

The study area is bounded by a line connecting the following positions:

21°49′47.24″ N 065°49′48.15″ W

18°25′22.02″ N 064°52′39″ W

thence along US/British Virgin Islands, Boarder to:

18°16′43.01″ N 064°39′41″ W

18°03′2.96″ N 064°38′3″ W

18°02′6.17″ N 063°52′10.25″ W

16°44′49″ N 064°01′8″ W

14°53′4.39″ N 066°36′24.54″ W

15°12′51.02″ N 068°28′56″ W

18°07′27.02″ N 068°15′33.01″ W

21°52′8.51″ N 066°56′30.36″ W

thence return to origin.

The borders of this area approximately follow the Sector San Juan Captain of the Port Zone (33 CFR 3.35-25) and include both the Commonwealth of Puerto Rico and the Territory of the Virgin Islands, and the waters adjacent to both enclosed by the outermost extents of the EEZ. An illustration showing the study area is available in the docket where indicated under ADDRESSES.

The PR PARS will analyze navigation routes to/from the Commonwealth of Puerto Rico and the U.S. Virgin Islands to international routes to and from the United States. Current capabilities and planned improvements to handle maritime conveyances will be considered. The analyses will be conducted in accordance with COMDTINST 16003.2B, Marine Planning to Operate and Maintain the Marine Transportation System (MTS) and Implement National Policy. This Instruction is available at https://media.defense.gov/2019/Jul/10/2002155400/-1/-1/0/CI_16003_2B.PDF.

We will publish the results of the PR PARS in the Federal Register. It is possible that the study may validate the status quo (no fairways or routing measures) and conclude that no changes are necessary. It is also possible that the study may recommend one or more changes to address navigational safety and the efficiency of vessel traffic management. The recommendations may lead to future rulemakings or appropriate international agreements.

This notice is published under the authority of 46 U.S.C. 70003(c)(1).

Dated: April 3, 2023.
Brendan. C. McPherson,
Rear Admiral, U.S. Coast Guard, Commander, Seventh Coast Guard District.

[FR Doc. 2023-07367 Filed 4-6-23; 8:45 am]

BILLING CODE P